DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with February anniversary dates. In accordance with Commerce's regulations, we are initiating those administrative reviews.

DATES: Applicable April 16, 2018.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with February anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, except for the reviews of the antidumping duty orders on certain crystalline silicon photovoltaic products from Taiwan and the People's Republic of China (China), Commerce intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Respondent Selection—Certain Crystalline Silicon Photovoltaic Products From Taiwan and China

In the event Commerce limits the number of respondents selected for individual examination in the administrative reviews of the antidumping duty orders on certain crystalline silicon photovoltaic products from Taiwan and China, Commerce intends to select respondents, for those two reviews, based on volume data contained in responses to Q&V Questionnaires. Further, Commerce intends to limit the number of Q&V Questionnaires issued in those two reviews, based on CBP data for U.S. imports of solar cells and/or solar modules. We note that the units used to measure U.S. import quantities of solar cells and solar modules in CBP data are “number;” however, it would not be meaningful to sum the number of imported solar cells and the number of imported solar modules in attempting to determine the volume of subject merchandise exported by Taiwanese exporters. Moreover, we also have concerns regarding inconsistencies in the unit of measure used to report CBP data for solar modules exported from China. Therefore, Commerce may limit the number of Q&V Questionnaires issued based on the import values in CBP data, which will serve as a proxy for imported quantities. Parties subject to these two antidumping duty administrative reviews of certain crystalline silicon photovoltaic products to which Commerce does not send a Q&V Questionnaire may file a response to the Q&V Questionnaire by the applicable deadline if they desire to be included in the pool of companies from which Commerce will select mandatory respondents. The Q&V Questionnaire will be available on Commerce's website at http://trade.gov/enforcement/news.asp on the date of publication of this notice in the Federal Register. The responses to the Q&V Questionnaire must be received by Commerce no later than 21 days after the publication of this initiation notice. Please be advised that due to the time constraints imposed by the statutory and regulatory deadlines for antidumping duty administrative reviews, Commerce does not intend to grant any extensions for the submission of responses to the Q&V Questionnaire. Parties will be given the opportunity to comment on the CBP data used by Commerce to limit the number of Q&V Questionnaires issued. We intend to place CBP data on the record within five days of publication of this notice in the Federal Register. Comments regarding the CBP data and respondent selection should be submitted seven days after placement of the CBP data on the record.

Deadline for Withdrawal of Request for Administrative Review

Pursuant to 19 CFR 351.213(d)(1), a party that has requested a review may withdraw that request within 90 days of the date of publication of the notice of initiation of the requested review. The regulation provides that Commerce may extend this time if it is reasonable to do so. In order to provide parties additional certainty with respect to when Commerce will exercise its discretion to extend this 90-day deadline, interested parties are advised that Commerce does not intend to extend the 90-day deadline unless the requestor demonstrates that an extraordinary circumstance has prevented it from submitting a timely withdrawal request. Determinations by Commerce to extend the 90-day deadline will be made on a case-by-case basis.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Furthermore, companies to which Commerce issues Q&V Questionnaires in the administrative review of the antidumping duty order on certain crystalline silicon photovoltaic products from China must submit a timely and complete response to the Q&V Questionnaire, in addition to a timely and complete Separate Rate Status Application or Separate Rate Certification in order to receive consideration for separate-rate status. In other words, Commerce will not give consideration to any timely Separate Rate Status Application or Separate Rate Certification made by parties to whom Commerce issued a Q&V Questionnaire but who failed to respond in a timely manner to the Q&V Questionnaire.

Exporters subject to the administrative review of the antidumping duty order on certain crystalline silicon photovoltaic products from China to which Commerce does not send a Q&V Questionnaire may receive consideration for separate-rate status if they file a timely Separate Rate Application or a timely Separate Rate Certification without filing a response to the Q&V Questionnaire. All information submitted by respondents in the antidumping duty administrative review of certain crystalline silicon photovoltaic products from China is subject to verification. As noted above, the Separate Rate Certification, the Separate Rate Application, and the Q&V Questionnaire will be available on Commerce's website on the date of publication of this notice in the Federal Register.

Initiation of Reviews

In accordance with 19 CFR 351.221(c)(1)(i), we are initiating administrative reviews of the following antidumping and countervailing duty orders and findings. We intend to issue the final results of these reviews not later than February 28, 2019.

| Period to be reviewed
Antidumping Duty Proceedings
Brazil: Stainless Steel Bar, A-351-825 | 2/1/17-1/31/18
Villares Metals S.A.
India: Stainless Steel Bar, A-533-810 | 2/1/17-1/31/18
Venus Group
Jindal Stainless (Hisar) Limited
Jindal Stainless Limited
Laxcon Steels Limited
India: Certain Frozen Warmwater Shrimp, A-533-840 | 2/1/17-1/31/18
Abad Fisheries
Akshay Food Impex Private Limited
Alashore Marine Exports (P) Ltd.
Albys Agro Private Limited
Allana Frozen Foods Pvt. Ltd.
Allanasons Ltd.
Alpha Marine
Amarsagar Seafoods Exports Private Limited
AMI Enterprises
Amulya Seafoods
Ananda Aqua Applications/Ananda Aqua Exports (P) Limited/Ananda Foods
Ananda Enterprises (India) Private Limited
Angelique Intl
Anjaneya Seafoods
Apex Frozen Foods Private Limited
Aquatica Frozen Foods Global Pvt. Ltd.
Arya Sea Foods Private Limited
Asvini Exports
Asvini Fisheries Ltd./Asvini Fisheries Private Limited
Avanti Feeds Limited/Avanti Frozen Foods Private Limited
Ayshwarya Seafood Private Limited
B-One Business House Pvt. Ltd.
B R Traders
Baby Marine Exports
Baby Marine International
Baby Marine Sarass
Baby Marine Ventures
Balasore Marine Exports Private Limited
Bay Seafoods
Bell Exim Pvt. Ltd.
Bhatsons Aquatic Products
Bhavani Seafoods
Bijaya Marine Products
Blue-Fin Frozen Foods Pvt. Ltd.
Bluepark Seafoods Private Ltd.
Blue Water Foods & Exports P. Ltd.
BMR Exports
BMR Industries Private Limited
Britto Seafood Exports Pvt Ltd.
C P Aquaculture (India) Ltd.
Calcutta Seafoods Pvt. Ltd.
Canaan Marine Products
Capithan Exporting Co.
Cargomar Private Limited
Castlerock Fisheries Ltd.
Chakri Fisheries Private Limited
Chemmeens (Regd)
Cherukattu Industries (Marine Div.)
Choice Trading Corporation Private Limited
Coastal Aqua
Coastal Corporation Ltd.
Cochin Frozen Food Exports Pvt. Ltd.
Continental Fisheries India Pvt. Ltd.
Coreline Exports
Corlim Marine Exports Pvt. Ltd.
Crystal Sea Foods Private Limited
D2 D Logistics Private Limited
Damco India Private Limited
Delsea Exports Pvt. Ltd.
Devi Fisheries Limited/Satya Seafoods Private Limited/Usha Seafoods/Devi Aquatech Private Limited
Devi Marine Food Exports Private Ltd./Kader Exports Private Limited/Kader Investment and Trading Company Private Limited/Liberty Frozen Foods Pvt. Ltd./Liberty Oil Mills Ltd./Premier Marine Products Private Limited/Universal Cold Storage Private Limited
Devi Sea Foods Limited
Diamond Seafoods Exports/Edhayam Frozen Foods Pvt. Ltd./Kadalkanny Frozen Foods/Theva & Company
Esmario Export Enterprises
Exporter Coreline Exports
Falcon Marine Exports Limited/K.R. Enterprises
Febin Marine Foods
Five Star Marine Exports Private Limited
Forstar Frozen Foods Pvt. Ltd.
Frontline Exports Pvt. Ltd.
G A Randerian Ltd.
Gadre Marine Exports
Galaxy Maritech Exports P. Ltd.
Geo Aquatic Products (P) Ltd.
Geo Seafoods
Goodwill Enterprises
Grandtrust Overseas (P) Ltd.
Green House Agro Products
Growel Processors Private Limited
GVR Exports Pvt. Ltd.
Hari Marine Private Limited
Haripriya Marine Export Pvt. Ltd.
Harmony Spices Pvt. Ltd.
HIC ABF Special Foods Pvt. Ltd.
Hindustan Lever, Ltd.
Hiravata Ice & Cold Storage
Hiravati Exports Pvt. Ltd.
Hiravati International Pvt. Ltd. (located at APM—Mafco Yard, Sector—18, Vashi, Navi, Mumbai—400 705, India).
Hiravati International Pvt. Ltd. (located at Jawar Naka, Porbandar, Gujarat, 360 575, India).
HN Indigos Private Limited
Hyson Logistics and Marine Exports Private Limited
IFB Agro Industries Ltd.
Indian Aquatic Products
Indo Aquatics
Indo Fisheries
Indo French Shellfish Company Private Limited
Innovative Foods Limited
International Freezefish Exports
Interseas
ITC Limited, International Business
ITC Ltd.
Jagadeesh Marine Exports
Jayalakshmi Sea Foods Pvt. Ltd.
Jinny Marine Traders
Jiya Packagings
K V Marine Exports
Kalyan Aqua & Marine Exp. India Pvt. Ltd.
Kanch Ghar
Karunya Marine Exports Private Limited
Kaushalya Aqua Marine Product Exports Private Limited
Kay Kay Exports
Kings Marine Products
KNC Agro Limited
Koluthara Exports Ltd.
Landauer Ltd.
Libran Cold Storages (P) Ltd.
Magnum Estates Limited
Magnum Export
Magnum Sea Foods Limited
Malabar Arabian Fisheries
Malnad Exports Pvt. Ltd.
Mangala Marine Exim India Pvt. Ltd.
Mangala Seafoods
Mangala Sea Products
Marine Harvest India
Meenaxi Fisheries Pvt. Ltd.
Milesh Marine Exports Private Limited
Milsha Agro Exports Pvt. Ltd.
Monsun Foods Pvt Ltd.
MTR Foods
Munnangi Sea Foods Pvt. Limited
N.C. John & Sons (P) Ltd.
Naga Hanuman Fish Packers
Naik Frozen Foods Private Limited
Naik Oceanic Exports Private Limited
Naik Seafoods Ltd.
Neeli Aqua Private Limited
Nekkanti Sea Foods Limited
Nezami Rekha Sea Foods Private Limited
NGR Aqua International
Nila Sea Foods Exports
Nila Sea Foods Pvt. Ltd.
Nine Up Frozen Foods
Nutrient Marine Foods Ltd.
Oceanic Edibles International Limited
Paragon Sea Foods Pvt. Ltd.
Paramount Seafoods
Parayil Food Products Pvt., Ltd.
Pasupati Aquatics Private Limited
Penver Products Pvt. Ltd.
Pesca Marine Products Pvt. Ltd.
Pijikay International Exports P Ltd.
Pisces Seafood International
Pravesh Seafood Private Limited
Premier Exports International
Premier Marine Foods
Premier Marine Products Private Limited
Premier Seafoods Exim (P) Ltd.
R V R Marine Products Limited
Raa Systems Pvt. Ltd.
Rafiq Naik Exports Private Limited
Raju Exports
Ram's Assorted Cold Storage Ltd.
Raunaq Ice & Cold Storage
Raysons Aquatics Pvt. Ltd.
Razban Seafoods Ltd.
RBT Exports
RDR Exports
RF Exports
Riviera Exports Pvt. Ltd.
Rohi Marine Private Ltd.
Royal Marine Impex Private Limited
RSA Marines
S & S Seafoods
S. A. Exports
S Chanchala Combines
Safa Enterprises
Sagar Foods
Sagar Grandhi Exports Pvt. Ltd.
Sagar Samrat Seafoods
Sagarvihar Fisheries Pvt. Ltd.
Sai Marine Exports Pvt. Ltd.
Sai Sea Foods
Salvam Exports (P) Ltd.
Samaki Exports Prviate Limited
Sanchita Marine Products Private Limited
Sandhya Aqua Exports
Sandhya Aqua Exports Pvt. Ltd.
Sandhya Marines Limited
Santhi Fisheries & Exports Ltd.
Sarveshwari Exports
Sea Foods Private Limited
Seagold Overseas Pvt. Ltd.
Selvam Exports Private Limited
Sharat Industries Ltd.
Sharma Industries
Shimpo Exports Pvt. Ltd.
Shimpo Seafoods Private Limited
Shiva Frozen Food Exports Pvt. Ltd.
Shree Datt Aquaculture Farms Pvt. Ltd.
Shroff Processed Food & Cold Storage P Ltd.
Silver Seafood
Sita Marine Exports
Southern Tropical Foods Pvt. Ltd.
Sowmya Agri Marine Exports
Sprint Exports Pvt. Ltd.
Sri Sakkthi Cold Storage
Sri Venkata Padmavathi Marine Foods Pvt. Ltd.
Srikanth International
Star Agro Marine Exports Private Limited
Star Organic Foods Incorporated
Star Organic Foods Private Limited
Sterling Foods
Sun Agro Exim
Sun-Bio Technology Ltd.
Sunrise Aqua Food Exports
Supran Exim Private Limited
Suryamitra Exim Pvt. Ltd.
Suvarna Rekha Exports Private Limited
Suvarna Rekha Marines P Ltd.
TBR Exports Pvt Ltd.
Teekay Marine P. Ltd.
The Waterbase Limited
Triveni Fisheries P Ltd.U & Company Marine Exports
Ulka Sea Foods Private Limited
Uniroyal Marine Exports Ltd.
Unitriveni Overseas
V V Marine Products
V.S. Exim Pvt Ltd.
Vasai Frozen Food Co.
Vasista Marine
Veejay Impex
Veerabhadra Exports Private Limited
Veronica Marine Exports Private Limited
Victoria Marine & Agro Exports Ltd.
Vinner Marine
Vitality Aquaculture Pvt., Ltd.
Wellcome Fisheries Limited
West Coast Fine Foods (India) Private Limited
West Coast Frozen Foods Private Limited
Z A Sea Foods Pvt. Ltd.
Italy: Stainless Steel Butt-Weld Pipe Fittings, A-475-828 | 2/1/17-1/31/18
Filmag Italia, SpA
Tectubi Raccordi S.p.A.
Malaysia: Stainless Steel Butt-Weld Pipe Fittings, A-557-809 | 2/1/17-1/31/18
Pantech Stainless & Alloy Industries Sdn. Bhd.
Superinox Max Fittings Industry Sdn. Bhd
Mexico: Large Residential Washers, A-201-842 | 2/1/17-1/31/18
Electrolux Home Products Corp. N.V.
Electrolux Home Products de Mexico, S.A. de C.V.
Oman: Circular Welded Carbon-Quality Steel Pipe ⁴, A-523-812 | 6/8/16-11/30/17
Republic of Korea: Certain Cut-to-Length Carbon-Quality Steel Plate, A-580-836 | 2/1/17-1/31/18
Dongkuk Steel Mill Co., Ltd.
Hyundai Steel Company
Republic of Korea: Large Residential Washers, A-580-868 | 2/1/17-1/31/18
LG Electronics, Inc.
Socialist Republic of Vietnam: Certain Frozen Warmwater Shrimp, A-552-802 | 2/1/17-1/31/18
A & CDN Foods Co., Ltd.
Amanda Seafood Co., Ltd.
An Huy B.T Co. Ltd.
Anh Koa Seafood
Anh Minh Quan Joint Stock Company
Asia Food Stuffs Import Export Co., Ltd.
Au Vung One Seafood Processing Import & Export Joint Stock Company
Au Vung Two Seafood Processing Import & Export Joint Stock Company
B.O.P Company Limited
B.O.P. Limited Co.
Bac Lieu Fisheries Joint Stock Company
Bac Lieu Fisheries Joint Stock Company (“Bac Lieu Fis”)
Bac Lieu Fisheries JSC
Ben Tre Forestry and Aquaproduct Import Export Joint Stock Company (“Faquimex”)
Ben Tre Forestry and Aquaproduct Import-Export Joint Stock Company (FAQUIMEX)
Bentre Aquaproduct Import & Export Joint Stock Company
Bentre Aquaproduct Import & Export Joint Stock Company (Aquatex Bentre)
Bien Dong Seafood Co., Ltd.
BIM Foods Joint Stock Company
BIM Seafood Joint Stock Company
Binh Dong Fisheries Joint Stock Company
Binh Thuan Import—Export Joint Stock Company (THAIMEX)
C.P. Vietnam Corporation
Ca Mau Agricultural Products and Foodstuff Imp-Exp Joint Stock Company (Agrimexco Camau)
Ca Mau Frozen Seafood Joint Stock Company (“Seaprimexco Vietnam”)
Ca Mau Seafood Joint Stock Company (“Seaprimexco Vietnam”)
Ca Mau Seafood Joint Stock Company (Seaprimexco Vietnam)
Cadovimex Seafood Import-Export and Processing Joint Stock Company
Cadovimex Seafood Import-Export and Processing Joint Stock Company (“Cadovimex”)
Cai Doi Vam Seafood Import-Export Co. (“CADOVIMEX”)
Cafatex Corporation
Cam Ranh Seafoods
Camau Frozen Seafood Processing Import Export Corporation (Camimex)
Camau Frozen Seafood Processing Import-Export Corporation (“CAMIMEX”)
Camau Seafood and Service Joint Stock Company (“CASES”)
Camau Seafood Processing and Service Joint Stock Corporation (and its affiliates, Kien Giang Branch—Camau Seafood Processing & Service Joint Stock Corporation, collectively “CASES”)
Camau Seafood Processing and Service Joint Stock Corporation (Cases)
Camau Seafood Processing and Service Joint-Stock Corporation, Kien Giang Branch.
Can Tho Import Export Fishery Limited Company (“CAFISH”)
Can Tho Import Export Fishery Limited Company (CAFISH)
Cholimex Food Joint Stock Company
CJ Cau Tre Foods Joint Stock Company
CJ Freshway (FIDES Food System Co., Ltd.)
Coastal Fisheries Development Corporation (“COFIDEC”)
Cong Ty Tnhh Thong Thuan (Thong Thuan)
Cuulong Seaproducts Company (“Cuulong Seapro”)
Cuulong Seaproducts Company (“Cuu Long Seapro”)
Cuulong Seaproducts Company (Cuulong Seapro)
Danang Seaproducts Import-Export Corporation (SEADANANG)
Dong Do Profo., Ltd.
Dong Hai Seafood Limited Company
Dong Phuong Seafood Co., Ltd.
Duc Cuong Seafood Trading Co., Ltd.
Fimex VN
Fine Foods Company (FFC)
Fine Foods Company (FFC) (Ca Mau Foods & Fishery Export Joint Stock Company)
Frozen Seafoods Factory No.32
Gallant Dachan Seafood Co., Ltd.
Gallant Ocean (Vietnam) Co., Ltd.
Gallant Ocean Viet Nam Co. Ltd.
Green Farms Joint Stock Company
Green Farms Seafoods Joint Stock Company
Hai Viet Corporation (“HAVICO”)
Hai Viet Corporation (HAVICO)
Hanh An Trading Service Co., Ltd.
Hanoi Seaproducts Import & Export Joint Stock Corporation (Seaprodex Hanoi)
Hoa Trung Seafood Corporation (HSC)
Hoang Phuong Seafood Factory
HungHau Agricultural Joint Stock Company
Huynh Huong Seafood Processing
Huynh Huong Trading and Import-Export Joint Stock Company
Investment Commerce Fisheries Corporation (“INCOMFISH”)
Investment Commerce Fisheries Corporation (Incomfish)
JK Fish Co., Ltd.
Kaiyo Seafood Joint Stock Company
Khai Minh Trading Investment Corporation
Khanh Hoa Seafoods Exporting Company (KHASPEXCO)
Khanh Sung Co., Ltd
Kim Anh Co., Ltd (“Kim Anh”)
Kim Anh Company Limited
Lam Son Import-Export Foodstuff Company Limited (Lamson Fimexco)
Long Toan Frozen Aquatic Products Joint Stock Company
Minh Bach Seafood Company Limited
Minh Cuong Seafood Import Export Processing Joint Stock Company (“MC Seafood”)
Minh Cuong Seafood Import-Export Processing (“MC Seafood”)
Minh Hai Export Frozen Seafood Processing Joint-Stock Company (“Minh Hai Jostoco”)
Minh Hai Export Frozen Seafood Processing Joint-Stock Company (Minh Hai Jostoco)
Minh Hai Joint-Stock Seafoods Processing Company
Minh Hai Joint-Stock Seafoods Processing Company (“Seaprodex Minh Hai”)
Minh Hai Joint-Stock Seafoods Processing Company (Seaprodex Minh Hai)
Minh Phu Seafood Corporation ⁵
My Son Seafoods Factory
Nam Hai Foodstuff and Export Company Ltd
Namcan Seaproducts Import Export Joint Stock Company (Seanamico)
New Wind Seafood Co., Ltd.
NGO BROS Seaproducts Import-Export One Member Company Limited (“NGO BROS Company”)
Ngo Bros Seaproducts Import-Export One Member Company Limited (“Ngo Bros. Co., Ltd.”)
Ngo Bros Seaproducts Import-Export One Member Company Limited (Ngo Bros)
Ngoc Tri Seafood Joint Stock Company
Ngoc Tri Seafood Joint Stock Company (“Ngoc Tri”)
Nha Trang Fisheries Joint Stock Company
Nha Trang Fisheries Joint Stock Company (“Nha Trang Fisco”)
Nha Trang Seafoods
Nha Trang Seaproduct Company
Nha Trang Seaproduct Company (and its affiliates NT Seafoods Corporation, Nha Trang Seafoods—F.89 Joint Stock Company, NTSF Seafoods Joint Stock Company (collectively “Nha Trang Seafoods Group”)
Nhat Duc Co., Ltd.
Nigico Co., Ltd.
Phu Cuong Jostoco Corp.
Phu Cuong Jostoco Seafood Corporation
Phu Minh Hung Seafood Joint Stock Company
Phuong Nam Foodstuff Corp.
Phuong Nam Foodstuff Corp., Ltd.
QNL One Member Co., Ltd (“QNL”)
Quang Minh Seafood Co., Ltd.
Quoc Ai Seafood Processing Import Export Co., Ltd.
Quoc Toan Seafood Processing Factory (Quoc Toan PTE)
Quoc Viet Seaproducts Processing Trade and Import-Export Co., Ltd. (“Quoc Viet Co. Ltd.”)
Quoc Viet Seaproducts Processing Trading and Import-Export Co., Ltd.
Quy Nhon Frozen Seafoods Joint Stock Company
Saigon Aquatic Product Trading Joint Stock Company (APT Co.)
Saigon Food Joint Stock Company
Sao Ta Foods Joint Stock Company
Sao Ta Foods Joint Stock Company (“FIMEX VN”) (and its factory “Sao Ta Seafoods Factory”)
Sao Ta Foods Joint Stock Company (FIMEX VN)
Seafood Joint Stock Company No.4
Seafoods and Foodstuff Factory
Seavina Joint Stock Co.
Seavina Joint Stock Company
Seaprimexco Vietnam
Seaprodex Minh Hai
Sea Minh Hai
Soc Trang Seafood Joint Stock Company (“STAPIMEX”)
Soc Trang Seafood Joint Stock Company (STAPIMEX)
South Ha Tinh Seaproducts Import-Export Joint Stock Company
Special Aquatic Products Joint Stock Company (SEASPIMEX VIETNAM)
T & P Seafood Company Limited
Tacvan Frozen Seafood Processing Export Company
Tacvan Frozen Seafood Processing Export Company (Tacvan Seafoods Co.)
Tacvan Seafoods Company (“TACVAN”)
Tai Kim Anh Seafood Joint Stock Corporation
Tai Kim Anh Seafood Joint Stock Corporation (“TAIKA Seafood Corporation”)
Tai Kim Anh Seafood Joint Stock Corporation (TAIKA Seafood Corporation)
Taika Seafood Corporation
Tai Nguyen Seafood Co., Ltd.
Tan Phong Phu Seafood Co., Ltd. (“TPP Co., Ltd.”)
Tan Phong Phu Seafood Co., Ltd. (TPP Co. Ltd.)
Tan Thanh Loi Frozen Food Co., Ltd.
Taydo Seafood Enterprise
Thanh Doan Sea Products Import & Export Processing Joint Stock Company Thadimexco
Thanh Doan Sea Products Import & Export Processing Joint-Stock Company (THADIMEXCO)
Thien Phu Export Seafood Processing Company Limited
Thinh Hung Co., Ltd.
Thong Thuan—Cam Ranh Seafood Joint Stock Company
Thong Thuan—Cam Ranh Seafood Joint Stock Company (T&T Cam Ranh)
Thong Thuan Cam Ranh Seafood Joint Stock Company (“T&T Cam Ranh”)
Thong Thuan Company Limited
Thong Thuan Company Limited (“T&T”)
Thong Thuan Company Limited (T&T)
Thong Thuan Seafood Company Limited
Thuan Phuoc Seafoods and Trading Corporation
Thuan Phuoc Seafoods and Trading Corporation (“Thuan Phuoc Corp”)
Thuan Phuoc Seafoods and Trading Corporation and its separate factories Frozen Seafoods Factory No. 32, Seafoods and Foodstuff Factory, and My Son Seafoods Factory (collectively “Thuan Phuoc Corp.”)
Trang Corporation (Vietnam)
Trang Khan Seafood Co., Ltd.
Trang Khanh Seafood Co., Ltd
Trang Khanh Seafood Company Limited
Trong Nhan Seafood Co., Ltd. (“Trong Nhan”)
Trong Nhan Seafood Company Limited
Trung Son Corp
Trung Son Seafood Processing Joint Stock Company
UTXI Aquatic Products Processing Company
UTXI Aquatic Products Processing Corporation (“UTXICO”) (and its branch Hoang Phuong Seafood Factory and Hoang Phong Seafood Factory)
UTXI Aquatic Products Processing Corporation (UTXICO)
Viet Foods Co., Ltd.
Viet Foods Co., Ltd. (“Viet Foods”)
Viet Hai Seafood Co., Ltd.
Viet I-Mei Frozen Foods Co., Ltd.
Viet I-Mei Frozen Foods Co. Ltd (“Viet I-Mei”)
Viet Nam Seaproducts—Joint Stock Company
Viet Phu Foods and Fish Corp.
Vietnam Clean Seafood Corporation (“Vina Cleanfood”)
Vietnam Clean Seafood Corporation (Vina Cleanfood)
Vietnam Fish One Co., Ltd.
Vietnam Fish-One Co., Ltd.
Vinh Hoan Corp.
Xi Nghiep Che Bien Thuy Suc San Xuat Kau Cantho
Socialist Republic of Vietnam: Steel Wire Garment Hangers, A-552-812 | 2/1/17-1/31/18
Angang Clothes Rack Manufacture Co.
Asmara Home Vietnam
B2B Co., Ltd.
Capco Wai Shing Viet Nam Co. Ltd.
Cong Ty Co Phan Moc Ao
CTN Co. Ltd.
C.T.N. International Ltd.
CTN Limited Company
Cty Tnhn Mtv Xnk My Phuoc
Cty Thnh San Xuat My Phuoc Long An Factory
Dai Nam Group
Dai Nam Investment JSC
Diep Son Hangers Co. Ltd.
Diep Son Hangers One Member Co. Ltd.
Dong Nam A Co. Ltd.
Dong Nam A Hamico Joint Stock Company
Dong Nam A Trading Co.
EST Glory Industrial Ltd.
Focus Shipping Corp.
Godoxa Vietnam Co. Ltd.
Godoxa Viet Nam Ltd.
HCMC General Import and Export Investment Joint Stock Company
Hongxiang Business and Product Co., Ltd.
Huqhu Co., Ltd.
Infinite Industrial Hanger Limited
Infinite Industrial Hanger Co. Ltd.
Ju Fu Co. Ltd.
Linh Sa Hamico Company, Ltd.
Long Phung Co. Ltd.
Lucky Cloud (Vietnam) Hanger Co. Ltd.
Minh Quang Hanger
Minh Quang Steel Joint Stock Company
Moc Viet Manufacture Co., Ltd.
Nam A Hamico Export Joint Stock Co.
Nghia Phoung Nam Production Company
Nguyen Haong Vu Co. Ltd.
N-Tech Vina Co. Ltd.
NV Hanger Co., Ltd.
Quoc Ha Production Trading Services Co. Ltd.
Quyky Co., Ltd
Quyky Group
Quyky-Yangle International Co., Ltd.
S.I.I.C.
South East Asia Hamico Exports JSC
T.J. Co. Ltd.
TJ Group
Tan Dihn Enterprise
Tan Dinh Enterprise
Tan Minh Textile Sewing Trading Co., Ltd.
Thanh Hieu Manufacturing Trading Co. Ltd.
The Xuong Co. Ltd.
Thien Ngon Printing Co., Ltd.
Top Sharp International Trading Limited
Triloan Hangers, Inc.
Tri-State Trading
Trung Viet My Joint Stock Company
Truong Hong Lao—Viet Joint Stock Co., Ltd.
Uac Co. Ltd.
Viet Anh Imp-Exp Joint Stock Co.
Viet Hanger
Viet Hanger Investment, LLC
Vietnam Hangers Joint Stock Company
Vietnam Sourcing
VNS
VN Sourcing
Yen Trang Co., Ltd.
Socialist Republic of Vietnam: Utility Scale Wind Towers, A-552-814 | 2/1/17-1/31/18
CS Wind Group ⁶
Vina Halla Heavy Industries Ltd.
UBI Tower Sole Member Company Ltd.
Taiwan: Crystalline Silicon Photovoltaic Products, A-583-853 | 2/1/17-1/31/18
AU Optronics Corporation
Baoding Jiasheng Photovoltaic Technology Co. Ltd.
Baoding Tianwei Yingli New Energy Resources Co., Ltd.
Beijing Tianneng Yingli New Energy Resources Co. Ltd.
Boviet Solar Technology Co., Ltd.
Canadian Solar Inc.
Canadian Solar International, Ltd.
Canadian Solar Manufacturing (Changshu), Inc.
Canadian Solar Manufacturing (Luoyang), Inc.
Canadian Solar Solutions Inc.
EEPV CORP.
E-TON Solar Tech. Co., Ltd.
Gintech Energy Corporation
Hainan Yingli New Energy Resources Co., Ltd.
Hengshui Yingli New Energy Resources Co., Ltd.
Inventec Energy Corporation
Inventec Solar Energy Corporation
Kyocera Mexicana S.A. de C.V.
Lixian Yingli New Energy Resources Co., Ltd.
Lof Solar Corp.
Motech Industries, Inc.
Shenzhen Yingli New Energy Resources Co., Ltd.
Sino-American Silicon Products Inc.
Solartech Energy Corporation
Sunengine Corporation Ltd.
Sunrise Global Solar Energy
Tianjin Yingli New Energy Resources Co., Ltd.
TSEC Corporation
Vina Solar Technology Co., Ltd.
Win Win Precision Technology Co., Ltd.
Yingli Energy (China) Co., Ltd.
Yingli Green Energy International Trading Company Limited
Thailand: Certain Frozen Warmwater Shrimp, A-549-822 | 2/1/17-1/31/18
A Foods 1991 Co., Limited/May Ao Foods Co., Ltd.⁷
A. Wattanachai Frozen Products Co., Ltd.
A.P. Frozen Foods Co., Ltd.
A.S. Intermarine Foods Co., Ltd.
ACU Transport Co., Ltd.
Ampai Frozen Food Co., Ltd.
Anglo-Siam Seafoods Co., Ltd.
Apex Maritime (Thailand) Co., Ltd.
Apitoon Enterprise Industry Co., Ltd.
Asian Alliance International Co., Ltd.
Applied DB Ind.
Asian Seafood Coldstorage (Sriracha)
Asian Seafoods Coldstorage Public Co., Ltd./Asian Seafoods Coldstorage (Suratthani) Co., Limited/STC Foodpak Ltd.
Assoc. Commercial Systems
B.S.A. Food Products Co., Ltd.
Bangkok Dehydrated Marine Product Co., Ltd.
C Y Frozen Food Co., Ltd.
C.P. Mdse
C.P. Merchandising Co., Ltd./Charoen Pokphand Foods Public Co., Ltd./Klang Co., Ltd./Seafoods Enterprise Co., Ltd./Thai Prawn Culture Center Co., Ltd.
C.P. Retailing and Marketing Co., Ltd.
C.P. Intertrade Co. Ltd.
Calsonic Kansei (Thailand) Co., Ltd.
Century Industries Co., Ltd.
Chaivaree Marine Products Co., Ltd.
Charoen Pokphand Petrochemical Co., Ltd.
Chonburi LC
Chue Eie Mong Eak
Commonwealth Trading Co., Ltd.
Core Seafood Processing Co., Ltd.
C.P.F. Food Products Co., Ltd.
Crystal Frozen Foods Co., Ltd.
Crystal Seafood
Daedong (Thailand) Co. Ltd.
Daiei Taigen (Thailand) Co., Ltd.
Daiho (Thailand) Co., Ltd.
Dynamic Intertransport Co., Ltd.
Earth Food Manufacturing Co., Ltd.
F.A.I.T. Corporation Limited
Far East Cold Storage Co., Ltd.
Findus (Thailand) Ltd.
Fortune Frozen Foods (Thailand) Co., Ltd.
Frozen Marine Products Co., Ltd.
Gallant Ocean (Thailand) Co., Ltd.
Gallant Seafoods Corporation
Global Maharaja Co., Ltd.
Golden Sea Frozen Foods Co., Ltd.
Golden Seafood International Co., Ltd.
Golden Thai Imp. & Exp. Co., Ltd.
Good Fortune Cold Storage Co. Ltd.
Good Luck Product Co., Ltd.
Grobest Frozen Foods Co., Ltd.
Gulf Coast Crab Intl.
H.A.M. International Co., Ltd.
Haitai Seafood Co., Ltd.
Handy International (Thailand) Co., Ltd.
Heng Seafood Limited Partnership
Heritrade
HIC (Thailand) Co., Ltd.
High Way International Co., Ltd.
I.S.A. Value Co., Ltd.
I.T. Foods Industries Co., Ltd.
Inter-Oceanic Resources Co., Ltd.
Inter-Pacific Marine Products Co., Ltd.
K & U Enterprise Co., Ltd.
K Fresh
K. D. Trading Co., Ltd.
K.L. Cold Storage Co., Ltd.
KF Foods Ltd.
Kiang Huat Sea Gull Trading Frozen Food Public Co., Ltd.
Kibun Trdg.
Kingfisher Holdings Ltd.
Kitchens of the Oceans (Thailand) Company, Ltd.
Kongphop Frozen Foods Co., Ltd.
Lee Heng Seafood Co., Ltd.
Leo Transports
Li-Thai Frozen Foods Co., Ltd.
Lucky Union Foods Co., Ltd.
Magnate & Syndicate Co., Ltd.
Mahachai Food Processing Co., Ltd.
Mahachai Marine Foods Co., Ltd.
Marine Gold Products Ltd.⁸
Merit Asia Foodstuff Co., Ltd.
Merkur Co., Ltd.
Ming Chao Ind Thailand
N&N Foods Co., Ltd.
N.R. Instant Produce Co., Ltd.
Namprik Maesri Ltd. Part.
Narong Seafood Co., Ltd.
Nongmon SMJ Products
Ongkorn Cold Storage Co., Ltd./Thai-Ger Marine Co., Ltd.
Pacific Fish Processing Co., Ltd.
Pacific Queen Co., Ltd.
Pakfood Public Company Limited/Asia Pacific (Thailand) Co., Ltd./Chaophraya Cold Storage Co., Ltd./Okeanos Co., Ltd./Okeanos Food Co., Ltd./Takzin Samut Co., Ltd./Thai Union Frozen Products Public Co., Ltd.⁹/Thai Union Group Public Co., Ltd./Thai Union Seafood Co., Ltd.¹⁰
Pakpanang Coldstorage Public Co., Ltd.
Penta Impex Co., Ltd.
Pinwood Nineteen Ninety Nine
Piti Seafood Co., Ltd.
Premier Frozen Products Co., Ltd.
Preserved Food Specialty Co., Ltd.
Queen Marine Food Co., Ltd.
Rayong Coldstorage (1987) Co., Ltd.
S2K Marine Product Co., Ltd.
S&D Marine Products Co., Ltd.
S&P Aquarium
S&P Syndicate Public Company Ltd.
S. Chaivaree Cold Storage Co., Ltd.
S. Khonkaen Food Industry Public Co., Ltd. and/or S. Khonkaen Food Ind. Public
S.K. Foods (Thailand) Public Co. Limited
Samui Foods Company Limited
SB Inter Food Co., Ltd.
SCT Co., Ltd.
Sea Bonanza Food Co., Ltd.
SEA NT'L CO., LTD.
Seafresh Fisheries/Seafresh Industry Public Co., Ltd.
Search and Serve
Sethachon Co., Ltd.
Shianlin Bangkok Co., Ltd.
Shing Fu Seaproducts Development Co.
Siam Food Supply Co., Ltd.
Siam Haitian Frozen Food Co., Ltd.
Siam Intersea Co., Ltd.
Siam Marine Products Co. Ltd.
Siam Ocean Frozen Foods Co. Ltd.
Siam Union Frozen Foods
Siamchai International Food Co., Ltd.
Smile Heart Foods
SMP Food Products, Co., Ltd.
Southport Seafood Co., Ltd.
Star Frozen Foods Co., Ltd.
Starfoods Industries Co., Ltd.
Suntechthai Intertrading Co., Ltd.
Surapon Foods Public Co., Ltd./Surat Seafoods Public Co., Ltd.
Surapon Nichirei Foods Co., Ltd.
Suratthani Marine Products Co., Ltd.
Suree Interfoods Co., Ltd.
T.S.F. Seafood Co., Ltd.
Tep Kinsho Foods Co., Ltd.
Teppitak Seafood Co., Ltd.
Tey Seng Cold Storage Co., Ltd./Chaiwarut Company Limited
Thai Agri Foods Public Co., Ltd.
Thai Hanjin Logistics Co., Ltd.
Thai Mahachai Seafood Products Co., Ltd.
Thai Ocean Venture Co., Ltd.
Thai Patana Frozen
Thai Pak Exports Co., Ltd.
Thai Royal Frozen Food Co., Ltd.
Thai Spring Fish Co., Ltd.
Thai Union Manufacturing Company Limited
Thai World Imports and Exports Co., Ltd.
Thai Yoo Ltd., Part.
The Union Frozen Products Co., Ltd./Bright Sea Co., Ltd.
Trang Seafood Products Public Co., Ltd.
Transamut Food Co., Ltd.
Tung Lieng Tradg.
United Cold Storage Co., Ltd.
V. Thai Food Product Co., Ltd.
Wann Fisheries Co., Ltd.
Xian-Ning Seafood Co., Ltd.
Yeenin Frozen Foods Co., Ltd.
ZAFCO TRDG
The People's Republic of China: Certain Crystalline Silicon Photovoltaic Products, A-570-010 | 2/1/17-1/31/18
BYD (Shangluo) Industrial Co., Ltd.
Changzhou Trina Solar Energy Co., Ltd./Trina Solar (Changzhou) Science and Technology Co., Ltd./Yangcheng Trina Solar Energy Co., Ltd./Turpan Trina Solar Energy Co., Ltd./Hubei Trina Solar Energy Co., Ltd.
Chint Solar (Zhejiang) Co., Ltd.
Hefei JA Solar Technology Co., Ltd.
Perlight Solar Co., Ltd.
Ri Shen Products (SZ) Ltd.
Shanghai BYD Co., Ltd.
Shenzhen Letsolar Technology Co., Ltd.
Shenzhen Sungold Solar Co., Ltd.
Sol-lite Manufacturing Company Limited
Sunny Apex Development Ltd.
Wuxi Suntech Power Co., Ltd.
The People's Republic of China: Certain Frozen Warmwater Shrimp, A-570-893 | 2/1/17-1/31/18
Allied Pacific Aquatic Products (Zhanjiang) Co., Ltd.¹¹
Allied Pacific Food (Dalian) Co., Ltd.
Allied Pacific (HK) Co., Ltd.
Asian Seafoods (Zhanjiang) Co., Ltd.
Beihai Anbang Seafood Co., Ltd.
Beihai Boston Frozen Food Co., Ltd.
Beihai Tianwei Aquatic Food Co. Ltd.
Changli Luquan Aquatic Products Co., Ltd.
Dalian Beauty Seafood Company Ltd.
Dalian Haiqing Food Co., Ltd.
Dalian Home Sea International Trading Co., Ltd.
Dalian Rich Enterprise Group Co., Ltd.
Dalian Shanhai Seafood Co., Ltd.
Dalian Taiyang Aquatic Products Co., Ltd.
Dandong Taihong Foodstuff Co., Ltd.
Fujian Chaohui Group
Fujian Chaohui Aquatic Food Co., Ltd.
Fujian Chaohui International Trading Co., Ltd.
Fujian Dongshan County Shunfa Aquatic Product Co., Ltd.
Fujian Dongya Aquatic Products Co., Ltd.
Fujian Fuding Seagull Fishing Food Co., Ltd.
Fujian Hainason Trading Co., Ltd.
Fujian Haohui Import & Export Co., Ltd.
Fujian Hongao Trade Development Co.
Fujian Rongjiang Import and Export Co., Ltd.
Fujian Tea Import & Export Co., Ltd.
Fujian Zhaoan Haili Aquatic Co., Ltd.
Fuqing Chaohui Aquatic Food Co., Ltd.
Fuqing Dongwei Aquatic Products Ind.
Fuqing Dongwei Aquatic Products Industry Co., Ltd.
Fuqing Longhua Aquatic Food Co., Ltd.
Fuqing Minhua Trade Co., Ltd.
Fuqing Yihua Aquatic Food Co., Ltd.
Gallant Ocean Group
Guangdong Foodstuffs Import & Export (Group) Corporation
Guangdong Gourmet Aquatic Products Co., Ltd.
Guangdong Jinhang Food Co., Ltd.
Guangdong Universal Aquatic Food Co.
Guangdong Wanshida Holding Corp.
Guangdong Wanya Foods Fty. Co., Ltd.
HaiLi Aquatic Product Co., Ltd. Zhaoan Fujian
Hainan Brich Aquatic Products Co., Ltd.
Hainan Golden Spring Foods Co., Ltd.
Huazhou Xinhai Aquatic Products Co. Ltd.
Leizhou Bei Bu Wan Sea Products Co., Ltd.
Longhai Gelin Foods Co., Ltd.
Maoming Xinzhou Seafood Co., Ltd.
New Continent Foods Co., Ltd.
North Seafood Group Co.
Olanya (Germany) Ltd.
Penglai Huiyang Foodstuff Co., Ltd.
Qingdao Fusheng Foodstuffs Co., Ltd.
Qingdao Yihexing Foods Co., Ltd.
Qinhuangdao Gangwan Aquatic Products Co., Ltd.
Red Garden Food Processing Co., Ltd.¹²
Rizhao Rongxing Co. Ltd.
Rizhao Smart Foods Company Limited
Rongcheng Yinhai Aquatic Product Co., Ltd.
Rushan Chunjiangyuan Foodstuffs Co.
Savvy Seafood Inc.
Shanghai Zhoulian Foods Co., Ltd.
Shantou Freezing Aquatic Product Foodstuffs Co.
Shantou Jiazhou Food Industrial Co., Ltd.
Shantou Jintai Aquatic Product Industrial Co., Ltd.
Shantou Longsheng Aquatic Product Foodstuff Co., Ltd.
Shantou Ocean Best Seafood Corporation
Shantou Red Garden Food Processing Co., Ltd.
Shantou Red Garden Foodstuff Co., Ltd.
Shantou Ruiyuan Industry Co., Ltd.
Shantou Wanya Foods Fty. Co., Ltd.
Shantou Yelin Frozen Seafood Co., Ltd.¹³
Shantou Yuexing Enterprise Company
Thai Royal Frozen Food Zhanjiang Co., Ltd.
Xiamen Granda Import and Export Co., Ltd.
Yangjiang Dawu Aquatic Products Co., Ltd.
Yangjiang Haina Datong Trading Co.
Yantai Wei Cheng Food Co., Ltd.
Yantai Wei-Cheng Food Co., Ltd.
Zhangzhou Donghao Seafoods Co., Ltd.
Zhangzhou Xinhui Foods Co., Ltd.
Zhangzhou Xinwanya Aquatic Product Co., Ltd.
Zhangzhou Yanfeng Aquatic Product & Foodstuff Co., Ltd.
Zhanjiang Evergreen Aquatic Product Science and Technology Co., Ltd.
Zhanjiang Fuchang Aquatic Products Freezing Plant
Zhanjiang Guolian Aquatic Products Co., Ltd.¹⁴
Zhanjiang Jinguo Marine Foods Co., Ltd.
Zhanjiang Longwei Aquatic Products Industry Co., Ltd.
Zhanjiang Newpro Foods Co., Ltd.
Zhanjiang Regal Integrated Marine Resources Co., Ltd.¹⁵
Zhanjiang Universal Seafood Corp.
Zhaoan Yangli Aquatic Co., Ltd.
Zhejiang Xinwang Foodstuffs Co., Ltd.
Zhoushan Genho Food Co., Ltd.
Zhoushan Green Food Co., Ltd.
The People's Republic of China: Certain Preserved Mushrooms, A-570-851 | 2/1/17-1/31/18
Linyi City Kangfa Foodstuff Drinkable Co., Ltd.
The People's Republic of China: Multilayered Wood Flooring, A-570-970 | 12/1/16-11/30/17
Fine Furniture (Shanghai) Limited and Double F Limited ¹⁶
The People's Republic of China: Small Diameter Graphite Electrodes, A-570-929 | 2/1/17-1/31/18
5-Continent Imp. & Exp. Co., Ltd.
Acclcarbon Co., Ltd.
Allied Carbon (China) Co., Limited
Anssen Metallurgy Group Co., Ltd.
Apex Maritime (Dalian) Co., Ltd.
Asahi Fine Carbon (Dalian) Co., Ltd.
Assi Steel Co. Ltd.
Beijing Fangda Carbon Tech Co., Ltd.
Beijing International Trade Co., Ltd.
Beijing Kang Jie Kong Cargo Agent Expeditors (Tianjin Branch)
Beijing Shougang Huaxia International Trade Co. Ltd.
Beijing Xinchengze Inc.
Beijing Xincheng Sci-Tech. Development Inc.
Brilliant Charter Limited
Carbon International
Chang Cheng Chang Electrode Co., Ltd.
Chengde Longhe Carbon Factory
Chengdelh Carbonaceous Elements Factory
Chengdu Jia Tang Corp.
Chengdu Rongguang Carbon Co., Ltd.
China Carbon Graphite Group Inc.
China Industrial Mineral & Metals Group
China Shaanxi Richbond Imp. & Exp. Industrial Corp. Ltd.
China Xingyong Carbon Co.n Ltd.
CIMM Group Co., Ltd.
Dalian Carbon & Graphite Corporation
Dalian Hongrui Carbon Co., Ltd.
Dalian Honest International Trade Co., Ltd.
Dalian Horton International Trading Co., Ltd.
Dalian LST Metallurgy Co., Ltd.
Dalian Shuangji Co., Ltd.
Dalian Thrive Metallurgy Imp. & Exp. Co., Ltd.
Dandong Xinxin Carbon Co. Ltd.
Datong Carbon
Datong Xincheng Carbon Co., Ltd.
Datong Xincheng New Material Co.,
Dechang Shida Carbon Co., Ltd
De Well Container Shipping Corp. (Dewell Group)
Dewell Group
Dignity Success Investment Trading Co., Ltd.
Double Dragon Metals and Mineral Tools Co.o Ltd.
Fangda Carbon New Material Co., Ltd.
Fangda Lanzhou Carbon Joint Stock Company Co. Ltd.
Foset Co., Ltd.
Fushun Carbon Co., Ltd.
Fushun Jinli Petrochemical Carbon Co., Ltd.
Fushun Jinly Petrochemical Carbon Co., Ltd.
Fushun Oriental Carbon Co., Ltd.
GES (China) Co. Ltd.
GR Industrial Corporation
Grafworld International Inc.
Gold Success Group Ltd.
Grameter Shipping Co., Ltd. (Qingdao Branch)
Guangdong Highsun Yongye (Group) Co., Ltd.
Guanghan Shida Carbon Co., Ltd.
Haimen Shuguang Carbon Industry Co., Ltd.
Handan Hanbo Material Co., Ltd.
Hanhong Precision Machinery Co., Ltd.
Hebei Long Great Wall Electrode Co., Ltd.
Hefei Carbon Co., Ltd.
Heico Universal (Shanghai) Distribution Co., Ltd.
Heilongiiang Xinyuan Carbon Co. Ltd.
Henan Sanli Carbon Products Co., Ltd.
Henan Sihai Import and Export Co., Ltd.
Hohhot Muzi Carbon Trade Co., Ltd.
Hopes (Beijing) International Co., Ltd.
Huanan Carbon Factory
Hunan Mec Machinery and Electronics Imp. & Exp. Corp.
Hunan Yinguang Carbon Factory Co., Ltd.
Inner Mongolia QingShan Special Graphite and Carbon Co., Ltd.
Inner Mongolia Xinghe County Hongyuan Electrical Carbon Factory
Jiangsu Yafei Carbon Co., Ltd.
Jiaozuo Zhongzhou Carbon Products Co., Ltd.
Jichun International Trade Co., Ltd. of Jilin Province
Jiexiu Juyuan Carbon Co., Ltd.
Jiexiu Ju-Yuan & Coaly Co., Ltd.
Jilin Carbon Graphite Material Co., Ltd.
Jilin Carbon Import and Export Company
Jilin Songiiang Carbon Co Ltd.
Jinneng Group Co., Ltd.
Jinyu Thermo-Electric Material Co., Ltd.
JL Group
Kaifeng Carbon Company Ltd.
KASY Logistics (Tianjin) Co., Ltd.
Kimwan New Carbon Technology and Development Co., Ltd.
Kingstone Industrial Group Ltd.
L & T Group Co., Ltd.
Laishui Long Great Wall Electrode Co. Ltd.
Lanzhou Carbon Co., Ltd.
Lanzhou Carbon Import & Export Corp.
Lanzhou Hailong Technology
Lanzhou Ruixin Industrial Material Co., Ltd.
Lianxing Carbon Qinghai Co., Ltd.
Lianxing Carbon Science Institute
Lianxing Carbon (Shandong) Co., Ltd.
Lianyungang Jianglida Mineral Co., Ltd.
Lianyungang Jinli Carbon Co., Ltd.
Liaoning F'enghua Trasteel Industry Co., Ltd.
Liaoyang Carbon Co. Ltd.
Linghai Hongfeng Carbon Products Co., Ltd.
Linyi County Lubei Carbon Co., Ltd.
Maoming Yongye (Group) Co., Ltd.
MBI Beijing International Trade Co., Ltd.
Nantong Dongiin New Energy Co., Ltd.
Nantong Falter New Energy Co., Ltd.
Nantong River-East Carbon Joint Stock Co., Ltd.
Nantong River-East Carbon Co., Ltd.
Nantong Yangtze Carbon Corp. Ltd.
Nantong Yanzi Carbon Co. Ltd.
Oracle Carbon Co., Ltd.
Orient (Dalian) Carbon Resources Developing Co., Ltd.
Orient Star Transport International, Ltd.
Oriental Carbon Co. Limited
Peixian Longxiang Foreign Trade Co. Ltd.
Pudong Trans USA,Inc. (Dalian Offïce)
Qingdao Grand Graphite Products Co., Ltd.
Qingdao Haosheng Metals Imp. & Exp. Co., Ltd.
Quingdao Haosheng Metals & Minerals Imp. & Exp. Co., Ltd.
Qingdao Liyikun Carbon Development Co., Ltd.
Qingdao Likun Graphite Co., Ltd.
Qingdao Ruizhen Carbon Co., Ltd.
Qingdao Yijia E.T.I. I/E Co., Ltd.
Qingdao Youyuan Metallurgy Material Limited Company (China)
Ray Group Ltd.
Rex International Forwarding Co., Ltd.
Rt Carbon Co., Ltd.
Ruitong Carbon Co., Ltd.
Sangraf Energy Technology Co., Ltd.
Sea Trade International, Inc.
Seamaster Global Forwarding (China)
Shandong Basan Carbon Plant
Shandong Zibo Continent Carbon F'actory
Shanghai Carbon International Trade Co., Ltd.
Shanghai GC Co., Ltd
Shanghai Jinneng International Trade Co., Ltd.
Shanghai P.W. International Ltd.
Shanghai Shen-Tech Graphite Material Co., Ltd.
Shanghai Topstate International Trading Co., Ltd.
Shanxi Cimm Donghai Advanced Carbon Co., Ltd.
Shanxi Datong Energy Development Co., Ltd.
Shanxi Foset Carbon Co. Ltd.
Shanxi Jiexiu Import and Export Co., Ltd.
Shanxi Jinneng Group Co., Ltd.
Shanxi Yunheng Graphite Electrode Co., Ltd.
Shenyang Jinli Metals & Minerals Imp. & Exp. Co., Ltd.
Shida Carbon Group
Shijaizhuang Carbon Co., Ltd.
Shijiazhuang Huanan Carbon Factory
Sichuan 5-Continent Imp & Exp Co., Ltd.
Sichuan Guanghan Shida Carbon Co., Ltd.
Sichuan Shida Trading Co., Ltd.
Sichuan GMT International Inc.
Sinicway International Logistics Ltd.
Sino Industries Enterprise Ltd.
Sinosteel Anhui Co., Ltd.
Sinosteel Jilin Carbon Co. Ltd.
Sinosteel Jilin Carbon Imp. & Exp. Co. Ltd.
Sinosteel Sichuan Co., Ltd.
SMMC Group Co., Ltd.
Sure Mega (Hong Kong) Ltd.
Tangshan Kimwan Special Carbon & Graphite Co., Ltd.
Tengchong Carbon Co., Ltd.
T.H.I. Global Holdings Corp.
T.H.I. Group (Shanghai), Ltd.
Tianjin (Teda) Iron & Steel Trade Co., Ltd.
Tianjin Kimwan Carbon Technology and Development Co., Ltd.
Tianjin Yue Yang Industrial & Trading Co., Ltd.
Tianzhen Jintian Graphite Electrodes Co., Ltd.
Tielong (Chengdu) Carbon Co., Ltd.
UK Carbon & Graphite
United Carbon Ltd.
United Trade Resources, Inc.
Weifang Lianxing Carbon Co., Ltd.
World Trade Metals & Minerals Co., Ltd.
XC Carbon Group
Xinghe County Muzi Carbon Co., Ltd.
Xinghe County Muzi Carbon Plant
Xinghe Xingyong Carbon Co., Ltd.
Xinghe Xinyuan Carbon Products Co., Ltd.
Xinyuan Carbon Co., Ltd.
Xuanhua Hongli Refractory and Mineral Company
Xuchang Minmetals & Industry Co., Ltd.
Xuzhou Carbon Co., Ltd.
Xuzhou Electrode Factory
Xuzhou Jianglong Carbon Products Co., Ltd.
Yangzhou Qionghua Carbon Trading Ltd.
Yixing Huaxin Imp & Exp Co. Ltd.
Youth Industry Co., Ltd.
Zhengzhou Jinyu Thermo-Electric Material Co., Ltd.
Zibo Continent Carbon Factory
Zibo DuoCheng Trading Co., Ltd.
Zibo Lianxing Carbon Co., Ltd.
Zibo Wuzhou Tanshun Carbon Co., Ltd.
The People's Republic of China: Uncovered Innerspring Units, A-570-928 | 2/1/17-1/31/18
Comfort Coil Technology Sdn. Bhd.
Foshan Nanhai Jolyspring
The People's Republic of China: Utility Scale Wind Towers, A-570-981 | 2/1/17-1/31/18
Alstom Sizhou Electric Power Equipment Co., Ltd.
AUSKY (Shandong) Machinery Manufacturing Co., Ltd.
AVIC International Renewable Energy Co., Ltd.
Baotou Titan Wind Power Equipment Co., Ltd.
Bashi Yuexin Logistics Development Co., Ltd.
CATIC International Trade & Economic Development Ltd.
Chengde Tianbao Machinery Co., Ltd.
Chengxi Shipyard Co., Ltd.
China WindPower Group
CleanTech Innovations Inc.
CNR Wind Turbine Co., Ltd.
CS Wind China Co., Ltd.
CS Wind Corporation
CS Wind Tech (Shanghai) Co., Ltd.
Dajin Heavy Industry Corporation
Greenergy Technology Co., Ltd.
Guangdong No. 2 Hydropower Engineering Co., Ltd.
Guodian United Power Technology Baoding Co., Ltd.
Harbin Hongguang Boiler Group Co., Ltd.
Hebei Ningqiang Group
Hebei Qiangsheng Wind Equipment Co., Ltd.
Jiangsu Baolong Electromechanical Mfg. Co., Ltd.
Jiangsu Baolong Tower Tube Manufacture Co., Ltd.
Jiangsu Taihu Boiler Co., Ltd.
Jiangyin Hengrun Ring Farging Co., Ltd.
Jilin Miracle Equipment Manufacturing Engineering Co., Ltd.
Jilin Tianhe Wind Power Equipment Co., Ltd. (f/k/a Jilin Mingmen Wind Power Equipment Co., Ltd.)
Jinan Railway Vehicles Equipment Co., Ltd.
Nanjing Jiangbiao Group Co., Ltd.
Nantong Dongtai New Energy Equipment Co., Ltd.
Nantong Hongbo Windpower Equipment Co., Ltd.
Ningxia Electric Power Group
Ningxia Yinxing Energy Co.
Ningxia Yinyi Wind Power Generation Co., Ltd.
Qingdao GeLinTe Environmental Protection Equipment Co., Ltd.
Qingdao Ocean Group
Qingdao Pingcheng Steel Structure Co., Ltd.
Qingdao Tianneng Electric Power Engineering Machinery Co., Ltd.
Qingdao Wuxiao Group Co., Ltd.
Renewable Energy Asia Group Ltd.
SDV China Nanjing
Shandong Endless Wind Turbine Technical Equipment Co., Ltd.
Shandong Iraeta Heavy Industry
Shandong Zhongkai Wind Power Equipment Manufacturers, Ltd.
Shanghai Aerotech Trading International
Shanghai GE Guangdian Co., Ltd.
Shanghai Taisheng Wind Power Equipment Co., Ltd.
Shenyang Titan Metal Co., Ltd.
Sinovel Wind Group Co., Ltd.
Suihua Wuxiao Electric Power Equipment Co., Ltd.
Titan (Lianyungang) Metal Product Co., Ltd.
Titan Wind Energy (Suzhou) Co., Ltd.
Vestas Wind Technology (China)
Wuxiao Steel Tower Co., Ltd.
Xinjiang Huitong (Group) Co., Ltd.
Zhangjiagang Zhiyi Medical Health
Countervailing Duty Proceedings
Socialist Republic of Vietnam: Steel Wire Garment Hangers, C-552-813 | 1/1/17-12/31/17
Angang Clothes Rack Manufacture Co.
Asmara Home Vietnam
B2B Co., Ltd.
Capco Wai Shing Viet Nam Co. Ltd.
Cong Ty Co Phan Moc Ao
CTN Co. Ltd.
C.T.N. International Ltd.
CTN Limited Company
Cty Tnhn Mtv Xnk My Phuoc
Cty Thnh San Xuat My Phuoc Long An Factory
Dai Nam Group
Dai Nam Investment JSC
Diep Son Hangers Co. Ltd.
Diep Son Hangers One Member Co. Ltd.
Dong Nam A Co. Ltd.
Dong Nam A Hamico Joint Stock Company
Dong Nam A Trading Co.
EST Glory Industrial Ltd.
Focus Shipping Corp.
Godoxa Vietnam Co. Ltd.
Godoxa Viet Nam Ltd.
HCMC General Import and Export Investment Joint Stock Company
Hongxiang Business and Product Co., Ltd.
Huqhu Co., Ltd.
Infinite Industrial Hanger Limited
Infinite Industrial Hanger Co. Ltd.
Ju Fu Co. Ltd.
Linh Sa Hamico Company, Ltd.
Long Phung Co. Ltd.
Lucky Cloud (Vietnam) Hanger Co. Ltd.
Minh Quang Hanger
Minh Quang Steel Joint Stock Company
Moc Viet Manufacture Co., Ltd.
Nam A Hamico Export Joint Stock Co.
Nghia Phoung Nam Production Company
Nguyen Haong Vu Co. Ltd.
N-Tech Vina Co. Ltd.
NV Hanger Co., Ltd.
Quoc Ha Production Trading Services Co. Ltd.
Quyky Co., Ltd
Quyky Group
Quyky-Yangle International Co., Ltd.
S.I.I.C.
South East Asia Hamico Exports JSC
T.J. Co. Ltd.
TJ Group
Tan Dihn Enterprise
Tan Dinh Enterprise
Tan Minh Textile Sewing Trading Co., Ltd.
Thanh Hieu Manufacturing Trading Co. Ltd.
The Xuong Co. Ltd.
Thien Ngon Printing Co, Ltd.
Top Sharp International Trading Limited
Triloan Hangers, Inc.
Tri-State Trading
Trung Viet My Joint Stock Company
Truong Hong Lao—Viet Joint Stock Co., Ltd.
Uac Co. Ltd.
Viet Anh Imp-Exp Joint Stock Co.
Viet Hanger
Viet Hanger Investment, LLC
Vietnam Hangers Joint Stock Company
Vietnam Sourcing
VNS
VN Sourcing
Yen Trang Co., Ltd.
Republic of Korea: Certain Cut-to-Length Carbon-Quality Steel Plate, C-580-837 | 1/1/17-12/31/17
Dongkuk Steel Mill Co., Ltd.
Hyundai Steel Company
The People's Republic of China: Certain Crystalline Silicon Photovoltaic Products, C-570-011 | 1/1/17-12/31/17
Changzhou Trina Solar Energy Co., Ltd.
Chint Solar (Zhejiang) Co., Ltd.
Hefei JA Solar Technology Co., Ltd.
Ri Shen Products (SZ) Ltd.
Risen Energy Co., Ltd.
Shanghai JA Solar Technology Co., Ltd.
Shenzhen Letsolar Technology Co., Ltd.
Shenzhen Sungold Solar Co., Ltd.
Sol-Lite Manufacturing Co., Ltd.
Sunny Apex Development Ltd.
Trina Solar (Changzhou) Science & Technology Co., Ltd.
The People's Republic of China: Utility Scale Wind Towers, C-570-982 | 1/1/17-12/31/17
Alstom Sizhou Electric Power Equipment Co., Ltd.
AUSKY (Shandong) Machinery Manufacturing Co., Ltd.
AVIC International Renewable Energy Co., Ltd.
Baotou Titan Wind Power Equipment Co., Ltd.
Bashi Yuexin Logistics Development Co., Ltd.
CATIC International Trade & Economic Development Ltd.
Chengde Tianbao Machinery Co., Ltd.
Chengxi Shipyard Co., Ltd.
China WindPower Group
CleanTech Innovations Inc.
CNR Wind Turbine Co., Ltd.
CS Wind China Co., Ltd.
CS Wind Corporation
CS Wind Tech (Shanghai) Co., Ltd.
Dajin Heavy Industry Corporation
Greenergy Technology Co., Ltd.
Guangdong No. 2 Hydropower Engineering Co., Ltd.
Guodian United Power Technology Baoding Co., Ltd.
Harbin Hongguang Boiler Group Co., Ltd.
Hebei Ningqiang Group
Hebei Qiangsheng Wind Equipment Co., Ltd.
Jiangsu Baolong Tower Tube Manufacture Co., Ltd.
Jiangsu Baolong Electromechanical Mfg. Co., Ltd.
Jiangsu Taihu Boiler Co., Ltd.
Jiangyin Hengrun Ring Farging Co., Ltd.
Jilin Miracle Equipment Manufacturing Engineering Co., Ltd.
Jilin Tianhe Wind Power Equipment Co., Ltd. (f/k/a Jilin Mingmen Wind Power Equipment Co., Ltd.)
Jinan Railway Vehicles Equipment Co., Ltd.
Nanjing Jiangbiao Group Co., Ltd.
Nantong Dongtai New Energy Equipment Co., Ltd.
Nantong Hongbo Windpower Equipment Co., Ltd.
Ningxia Electric Power Group
Ningxia Yinxing Energy Co.
Ningxia Yinyi Wind Power Generation Co., Ltd.
Qingdao GeLinTe Environmental Protection Equipment Co., Ltd.
Qingdao Ocean Group
Qingdao Pingcheng Steel Structure Co., Ltd.
Qingdao Tianneng Electric Power Engineering Machinery Co., Ltd.
Qingdao Wuxiao Group Co., Ltd.
Renewable Energy Asia Group Ltd.
SDV China Nanjing
Shandong Endless Wind Turbine Technical Equipment Co., Ltd.
Shandong Iraeta Heavy Industry
Shandong Zhongkai Wind Power Equipment Manufacturers, Ltd.
Shanghai Aerotech Trading International
Shanghai GE Guangdian Co., Ltd.
Shanghai Taisheng Wind Power Equipment Co., Ltd.
Shenyang Titan Metal Co., Ltd.
Sinovel Wind Group Co., Ltd.
Suihua Wuxiao Electric Power Equipment Co., Ltd.
Titan (Lianyungang) Metal Product Co., Ltd.
Titan Wind Energy (Suzhou) Co., Ltd.
Vestas Wind Technology (China)
Wuxiao Steel Tower Co., Ltd.
Xinjiang Huitong (Group) Co., Ltd.
Zhangjiagang Zhiyi Medical Health
Suspension Agreements
None

Duty Absorption Reviews

⁴ In the initiation notice dated February 23, 2018 (83 FR 8058), the period of review (POR) for Circular Welded Carbon-Quality Steel Pipe from Oman was listed incorrectly. The POR listed in this notice is the corrected period covered for this case.

⁵ Shrimp produced and exported by Minh Phu Seafood Corporation were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review with respect to Minh Phu Seafood Corporation only for shrimp produced in Vietnam where Minh Phu Seafood Corporation acted as either the manufacturer or exporter (but not both).

⁶ On February 28, 2018, Commerce received a request for an administrative review of CS Wind Corporation, among other companies. See Wind Tower Trade Coalition Letter, “Utility Scale Wind Towers from the Socialist Republic of Vietnam: Request for Administrative Review,” dated February 28, 2018. In the investigation of this proceeding, Commerce determined that “CS Wind Vietnam Co., Ltd.,” and “CS Wind Corporation” are a single entity “The CS Wind Group.” See Utility Scale Wind Towers from the Socialist Republic of Vietnam: Final Determination of Sales at Less Than Fair Value, 77 FR 75984 (December 26, 2012), as amended by Utility Scale Wind Towers from the Socialist Republic of Vietnam: Amended Final Determination of Sales at Less Than Fair Value and Antidumping Duty Order, 78 FR 11150, 11152 (February 15, 2013) (where Commerce stated that “The CS Wind Group consists of CS Wind Vietnam Co., Ltd. and CS Wind Corporation.”). On March 16, 2017, the United States Court of International Trade (CIT) issued its final judgment, sustaining Commerce's final results of redetermination regarding the investigation. See CS Wind Vietnam Co., Ltd., and CS Wind Corporation v. United States, 219 F.Supp. 3d 1273 (CIT 2017). On March 29, 2017, pursuant to that CIT decision, effective March 26, 2017, Commerce excluded from the antidumping duty order wind towers that are produced and exported by The CS Wind Group. See Utility Scale Wind Towers from the Socialist Republic of Vietnam: Notice of Court Decision Not in Harmony with the Final Determination of Less Than Fair Value Investigation and Notice of Amended Final Determination of Investigation, 82 FR 15493 (March 29, 2017). Thus, Commerce is issuing this notice of initiation of the 2017-2018 antidumping duty administrative review of wind towers from Vietnam with respect to the CS Wind Group. Commerce is initiating an administrative review only on entries where CS Wind Group was (1) the producer but not the exporter, or (2) the exporter but not the producer of subject merchandise.

⁷ On December 1, 2010, the Commerce found that A Foods 1991 Co., Limited is the successor-in-interest to May Ao Company Limited. See Notice of Final Results of Antidumping Duty Changed Circumstances Review: Certain Frozen Warmwater Shrimp from Thailand, 75 FR 74684 (Dec. 1, 2010).

⁸ Shrimp produced and exported by Marine Gold Products Ltd. (Marine Gold) were excluded from the AD Thailand order effective February 1, 2012. See 2011-2012 Thai Shrimp, 78 FR at 42499. Accordingly, we are initiating this administrative review with respect to Marine Gold only for shrimp produced in Thailand where Marine Gold acted as either the manufacturer or exporter (but not both).

⁹ On January 5, 2016, the Commerce found that Thai Union Group Public Co., Ltd. is the successor-in-interest to Thai Union Frozen Products Public Co., Ltd. See Notice of Final Results of Antidumping Duty Changed Circumstances Review: Certain Frozen Warmwater Shrimp from Thailand, 81 FR 222 (January 5, 2016).

¹⁰ In the 2012-2013 administrative review, the Commerce found that the following companies comprised a single entity: Thai Union Frozen Products Public Co. Ltd. and its affiliates, and Pakfood Public Company Limited and its affiliates. See Certain Frozen Warmwater Shrimp from Thailand: Final Results of Antidumping Duty Administrative Review, Final Determination of No Shipments, and Partial Rescission of Review; 2012-2013, 79 FR 51306 (August 28, 2014). Absent information to the contrary, we intend to continue to treat these companies as a single entity for purposes of this administrative review.

¹¹ This Order was revoked with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013). Accordingly, we are initiating this review for these exporters only with respect to subject merchandise produced by entities other than the aforementioned producers.

¹² This Order was revoked with respect to merchandise exported by Shantou Red Garden Foodstuff Co., Ltd., or Red Garden Food Processing Co., Ltd., and produced by Red Garden Food Processing Co., Ltd., or Chaoyang Jindu Hengchang Aquatic Products Enterprise Co., Ltd., or Raoping County Longfa Seafoods Co., Ltd., or Meizhou Aquatic Products Quick-Frozen Industry Co., Ltd., or Shantou Jinyuan District Mingfeng Quick-Frozen Factory, or Shantou Long Feng Foodstuffs Co., Ltd. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013). Accordingly, we are initiating this review for these exporters only with respect to subject merchandise produced by entities other than the aforementioned producers.

¹³ This Order was revoked with respect to merchandise exported by by Yelin Enterprise Co. Hong Kong or Shantou Yelin Frozen Seafood Co., Ltd., and manufactured by Shantou Yelin Frozen Seafood Co., Ltd., or Yangjiang City Yelin Hoi Tat Quick Frozen Seafood Co., Ltd., or Fuqing Yihua Aquatic Food Co., Ltd., or Shantou Jinyuan District Mingfeng Quick-Frozen Factory. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013). Accordingly, we are initiating this review for these exporters only with respect to subject merchandise produced by entities other than the aforementioned producers.

¹⁴ This Order was revoked with respect to subject merchandise produced and exported by Zhanjiang Guolian Aquatic Products Co., Ltd. See Notice of Amended Final Determination of Sales at Less Than Fair Value and Antidumping Duty Order: Certain Frozen Warmwater Shrimp from the People's Republic of China, 70 FR 5149, 5152 (February 1, 2005). Accordingly, we are initiating this review for this exporter only with respect to subject merchandise produced by another entity.

¹⁵ This Order was revoked with respect to subject merchandise produced and exported by Zhanjiang Regal Integrated Marine Resources Co., Ltd. See Certain Frozen Warmwater Shrimp from the People's Republic of China: Final Results of Administrative Review; 2011-2012, 78 FR 56209, 56210 (September 12, 2013). Accordingly, we are initiating this review for this exporter only with respect to subject merchandise produced by another entity.

¹⁶ Commerce inadvertently omitted Double F Limited from the Initiation Notice which published on February 23, 2018 (83 FR 8058). The correction has been noted above.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.¹⁷ Parties are hereby reminded that revised certification requirements are in effect for company/government officials as well as their representatives. All segments of any antidumping duty or countervailing duty proceedings initiated on or after August 16, 2013, should use the formats for the revised certifications provided at the end of the Final Rule.¹⁸ Commerce intends to reject factual submissions in any proceeding segments if the submitting party does not comply with applicable revised certification requirements.

¹⁷ See section 782(b) of the Act.

¹⁸ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: April 10, 2018.
James Maeder,
Associate Deputy Assistant Secretary for Antidumping and Countervailing Duty Operations performing the duties of Deputy Assistant Secretary for Antidumping and Countervailing Duty Operations.

[FR Doc. 2018-07852 Filed 4-13-18; 8:45 am]

BILLING CODE 3510-DS-P